DEPARTMENT OF AGRICULTURE

Animal and Plant Health Inspection Service

7 CFR Part 301

[Docket No. 00-004-2]

Asian Longhorned Beetle; Addition to Quarantined Areas

AGENCY: Animal and Plant Health Inspection Service, USDA.

ACTION: Affirmation of interim rule as final rule.

SUMMARY: We are adopting as a final rule, without change, an interim rule that amended the Asian longhorned beetle regulations by expanding the quarantined area in the city of Chicago, IL, and adding two new areas in Cook County, IL. As a result of the interim rule, the interstate movement of regulated articles from those areas is restricted. The interim rule was necessary on an emergency basis to prevent the artificial spread of the Asian longhorned beetle to noninfested areas of the United States.

EFFECTIVE DATE: The interim rule became effective on January 27, 2000.

FOR FURTHER INFORMATION CONTACT: Mr. Ron Milberg, Operations Officer, Program Support, PPQ, APHIS, 4700 River Road Unit 134, Riverdale, MD 20737-1236; (301) 734-5255.

SUPPLEMENTARY INFORMATION:

Background

In an interim rule effective January 27, 2000, and published in the Federal Register on February 2, 2000 (65 FR 4865-4866, Docket No. 00-004-1), we amended the Asian longhorned beetle regulations contained in § 301.51-1 through § 301.51-9 by expanding the quarantined area in the city of Chicago, IL, and adding two new areas in Cook County, IL, in § 301.51-3. That action restricted the interstate movement of regulated articles from those areas.

Comments on the interim rule were required to be received on or before April 3, 2000. We did not receive any comments. Therefore, for the reasons given in the interim rule, we are adopting the interim rule as a final rule.

This action also affirms the information contained in the interim rule concerning Executive Orders 12866, 12372, and 12988, and the Paperwork Reduction Act.

Further, for this action, the Office of Management and Budget has waived the review process required by Executive Order 12866.

Regulatory Flexibility Act

This rule affirms an interim rule that amended the Asian longhorned beetle regulations by expanding the quarantined area in the city of Chicago, IL, and adding two new areas in Cook County, IL. As a result of the interim rule, the interstate movement of regulated articles from those areas is restricted. The interim rule was necessary on an emergency basis to prevent the artificial spread of the Asian longhorned beetle to noninfested areas of the United States.

The following analysis addresses the economic effect of this rule on small entities, as required by the Regulatory Flexibility Act.

The quarantine and restrictions on the interstate movement of certain articles from the quarantined areas has been determined to be the most effective means of preventing the artificial spread of the pest outside the State of Illinois. Biological controls and pesticides do not currently appear to be effective alternatives.

Nonetheless, the interim rule will have no economic effect on businesses, large or small, since none are located in the newly quarantined 216 acres. The newly quarantined areas consist of a residential area, a cemetery, and a forest preserve.

Under these circumstances, the Administrator of the Animal and Plant Health Inspection Service has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 65 FR 4865-4866 on February 2, 2000.

Authority: 7 U.S.C. 147a, 150bb, 150dd, 150ee, 150ff, 161, 162, and 164-167; 7 CFR 2.22, 2.80, and 371.2(c).

Done in Washington, DC, this 12th day of May 2000.
Craig A. Reed,
Administrator, Animal and Plant Health Inspection Service.

[FR Doc. 00-12437 Filed 5-16-00; 8:45 am]

BILLING CODE 3410-34-U